DEPARTMENT OF DEFENSE

Department of the Navy

Notice of Intent To Grant Exclusive Patent License; Superior Armor Systems

AGENCY: Department of the Navy, DoD.

ACTION: Notice.

SUMMARY: The Department of the Navy hereby gives notice of its intent to grant to Superior Armor Systems, a revocable, nonassignable, exclusive license to practice in the fields of use of Multi-Ply Heterogeneous Armor; Polymer Coatings for Enhanced and Field-Repairable Transparent Armor; Body Armor of Ceramic Ball Embedded Polymer; and Polymer-Ceramic Coatings for Blast and Ballistic Mitigation in the United States, the Government-owned inventions described in U.S. Patent No. 8,746,122: Multi-Ply Heterogeneous Armor with Viscoelastic Layers and a Corrugated Front Surface, Navy Case No. 099,870.//U.S. Patent No. 8,789,454: Multi-Ply Heterogeneous Armor with Viscoelastic Layers and Cylindrical Armor Elements, Navy Case No. 099,870.//U.S. Patent No. 9,207,048: Multi-Ply Heterogeneous Armor with Viscoelastic Layers and Hemispherical, Conical and Angled Laminate Strikeface Projections, Navy Case No. 099,870.//U.S. Patent No. 9,285,191: Polymer Coatings for Enhanced and Field-Repairable Transparent Armor, Navy Case No. 102,832.//U.S. Patent No. 9,297,617: Method for Forming Cylindrical Armor Elements, Navy Case No. 099,870.//U.S. Patent Application No. 13/085,130: Multi-Ply Heterogeneous Armor with Viscoelastic Layers, Navy Case No. 099,870.//U.S. Patent Application No. 13/506,376: Body Armor of Ceramic Ball Embedded Polymer, Navy Case No. 101,504.//U.S. Patent No. 14/552,888: Elastomeric Bilayer Armor Incorporating Surface-Hardened Substrates, Navy Case No. 102,635.//U.S. Patent No. 14/751,596: Polymer Coatings with Embedded Hollow Spheres for Armor for Blast and Ballistic Mitigation, Navy Case No. 102,987 and any continuations, divisionals or re-issues thereof.

DATES: Anyone wishing to object to the grant of this license must file written objections along with supporting evidence, if any, not later than June 21, 2016.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR part 404.

Dated: May 31, 2016.
N.A. Hagerty-Ford,
Commander, Judge Advocate General's Corps, U.S. Navy, Federal Register Liaison Officer.

[FR Doc. 2016-13259 Filed 6-3-16; 8:45 am]

BILLING CODE 3810-FF-P